DEPARTMENT OF THE INTERIOR

National Park Service

[NPS-WASO-NAGPRA-NPS0039848; PPWOCRADN0-PCU00RP14.R50000]

Notice of Intended Repatriation: Ralph T Coe Center for the Arts, Santa Fe, NM

AGENCY: National Park Service, Interior.

ACTION: Notice.

SUMMARY: In accordance with the Native American Graves Protection and Repatriation Act (NAGPRA), the Ralph T Coe Center for the Arts intends to repatriate a certain cultural item that meets the definition of a sacred object and that has a cultural affiliation with the Indian Tribes or Native Hawaiian organizations in this notice.

DATES: Repatriation of the cultural item in this notice may occur on or after May 5, 2025.

ADDRESSES: Rose Burns, Ralph T Coe Center for the Arts, 1590B Pacheco, Santa Fe, NM 87505, telephone (505) 983-6372, email rburns@coeartscenter.org.

SUPPLEMENTARY INFORMATION: This notice is published as part of the National Park Service's administrative responsibilities under NAGPRA. The determinations in this notice are the sole responsibility of the Ralph T Coe Center for the Arts, and additional information on the determinations in this notice, including the results of consultation, can be found in the summary or related records. The National Park Service is not responsible for the determinations in this notice.

Abstract of Information Available

A total of one sacred object has been requested for repatriation. The one object is a wooden mask, NA1012.

The Ralph T. Coe Center for the Arts acquired NA1012 as a gift from Ralph T. Coe in 2011. Ralph T. Coe was likely gifted this item by Taylor and Sandy Dale. Ralph T Coe's notes state that “This mask is unattributed, but it may very well be by Allen Long of the eastern band, at Cherokee North Carolina.” The Coe Center for the Arts has no further provenance information on this object.

There are no known hazardous substances used to treat NA1012.

Determinations

The Ralph T Coe Center for the Arts has determined that:

• The one sacred object described in this notice is a specific ceremonial objects needed by a traditional Native American religious leader for present-day adherents to practice traditional Native American religion, according to the Native American traditional knowledge of a lineal descendant, Indian Tribe, or Native Hawaiian organization.

• There is a reasonable connection between the cultural item described in this notice and the Eastern Band of Cherokee Indians.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after May 5, 2025. If competing requests for repatriation are received, the Ralph T Coe Center for the Arts must determine the most appropriate requestor prior to repatriation. Requests for joint repatriation of the cultural item are considered a single request and not competing requests. The Ralph T Coe Center for the Arts is responsible for sending a copy of this notice to the Indian Tribes and Native Hawaiian organizations identified in this notice and to any other consulting parties.

Authority: Native American Graves Protection and Repatriation Act, 25 U.S.C. 3004 and the implementing regulations, 43 CFR 10.9.

Dated: March 26, 2025.
Melanie O'Brien,
Manager, National NAGPRA Program.

[FR Doc. 2025-05817 Filed 4-3-25; 8:45 am]

BILLING CODE 4312-52-P